DEPARTMENT OF COMMERCE

National Oceanic and Atmospheric Administration

[I.D. 032204B]

Western Pacific Fishery Management Council; Public Meetings

AGENCY: National Marine Fisheries Service (NMFS), National Oceanic and Atmospheric Administration (NOAA), Commerce.

ACTION: Notice of public meetings.

SUMMARY: The Western Pacific Fishery Management Council is hosting the Regional Fishery Management Council Chairs and Executive Directors Meeting on Tuesday, April 13, 2004, through Thursday April 15, 2004, in Hawaii. The purpose of the meeting is to enable NMFS and NOAA officials and others to exchange information with and obtain the individual views of the Council Chairs and Executive Directors. See SUPPLEMENTARY INFORMATION for specific times, dates, and agenda items.

ADDRESSES: The meeting will be held in Salon B at the Kaua'i Marriott Hotel, Kalapaki Beach, Lihue, Hawaii, 96766 Puna B and C meeting rooms; telephone: (808) 245 5050, http://marriotthawaii.com/kauai.html.

FOR FURTHER INFORMATION CONTACT: Kitty M. Simonds, Executive Director; telephone: (808) 522-8220.

SUPPLEMENTARY INFORMATION:

Dates and Times

There will be a non-public administrative session from 8 a.m. to 1 p.m. on April 13, 2004, the first general session will be from 2 p.m. to 6 p.m. on April 13, 2004. The second general session will be from 8 a.m. to 6 p.m. on April 14, 2004; and the final general session be from 8 a.m. until 6 p.m. on April 15, 2004.

The agenda during the General Session of the Regional Fishery Management Council Chairs and Executive Directors meeting will include the items listed here. The order in which agenda items are addressed may change. The Council will meet as late as necessary to complete scheduled business.

Tuesday, April 13, 2004, 2 p.m.

A. Opening Remarks by Western Pacific Council and NOAA Fisheries

B. Regional Highlights

C. Report on Managing the Nation's Fisheries Conference - and proposed Sequel Conference in March 2005

D. National Fisheries Conference II - The Future of Fisheries: Commercial, Recreational & Aquaculture, October 18-21, 2004 (Tentative)

E. Remarks - The Honorable Wayne T Gilchrest, Chair House Resources Subcommittee on Fisheries Conservation, Wildlife and Oceans.

F. MSA Reauthorization and other legislative initiatives.

1. Briefing from Congressional Staff

2. Review NOAA Fisheries position document, and proposed bill language (if available)

3. Review of Chairmen's positions on old and new issues

Wednesday, April 14, 2004, 8 a.m.

G. Federal Advisory Committee Act (FACA): Proceedings for Council Chairs and Executive Directors (CCED) meetings

H. Budget Issues

1. Council Funding Necessities

2. 2004 Budget - NOAA Matrix Management Coral Reef & Marine Protected Areas (MPAs) (National Ocean Service) & Ecosystem (NMFS)

3. Availability of 2004 National Environmental Policy Act (NEPA), Habitat and Ecosystem Funding for Councils

4. 2005 Budget Request

5. 2006 and Beyond

6. Council Grant Relationships with Regions and NOAA Office of Grants Management

I. Enforcement issues:

1. U.S. Coast Guard Report

2. NOAA Fisheries Office of Law Enforcement

3. NOAA Fisheries VMS Policy

J. National Constituent Meetings: Continuing the Dialogue

K. Management Issues:

1. Marine Protected Areas

a. National MPA Federal Advisory Committee and MPA Center Activities

b. National Marine Sanctuary Program and Regional Fishery Management Council (RFMC) Mandates

c. Regional Councils

2. Ecosystem Based Management

a. Science

b. Policy

3. National Standard 1

4. Stock Assessments

Thursday, April 15, 2004, 8 a.m.

L. Management Issues (Continued)

5. Regulatory Streamlining - Multi-year versus Annual Actions, NEPA Umbrella, etc.

6. Essential Fish Habitat

7. Research

8. Fish Consumption and Health Issues

9. Litigation

10. Bycatch

a. Observer: Implications of National Policy upon Labour Standard Act

b. Technology and Gear (including Private Fish Aggregating Devices)

11. Latent Effort/Overcapacity

12. International Issues

13. Protected Resources

M. Summary of Meeting

N. Next Meeting

Although non-emergency issues not contained in this agenda may come before these groups for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Dated: March 26, 2004.
Alan D. Risenhoover,
Acting Director, Office of Sustainable Fisheries, National Marine Fisheries Service.

[FR Doc. 04-7250 Filed 3-30-04; 8:45 am]

BILLING CODE 3510-22-S